OFFICE OF PERSONNEL MANAGEMENT

5 CFR Part 532

RIN 3206-AM59

Prevailing Rate Systems; Abolishment of the Washington, DC, Special Wage Schedule for Printing Positions

AGENCY: U.S. Office of Personnel Management.

ACTION: Interim rule with request for comments.

SUMMARY: The U.S. Office of Personnel Management is issuing an interim rule to abolish the Washington, DC, Federal Wage System (FWS) special wage schedule for printing and lithographic positions. Printing and lithographic employees in the Washington, DC, wage area will now be paid from the regular Washington, DC, appropriated fund FWS wage schedule. This change is necessary because Federal employment in printing and lithographic occupations in the Washington, DC, wage area has declined sharply in recent years, and a separate wage schedule is no longer viable or beneficial to employees.

DATES: Effective date: This regulation is effective on July 13, 2012. We must receive comments on or before August 13, 2012. Applicability date: Agencies will place employees who are paid from the Washington, DC, special wage schedule on the Washington, DC, regular wage schedule on the first day of the first applicable pay period beginning on or after October 21, 2012.

ADDRESSES: Send or deliver comments to Jerome D. Mikowicz, Deputy Associate Director for Pay and Leave, Employee Services, U.S. Office of Personnel Management, Room 7H31, 1900 E Street NW., Washington, DC 20415-8200; email pay-leave-policy@opm.gov; or Fax: (202) 606-4264.

FOR FURTHER INFORMATION CONTACT: Madeline Gonzalez, (202) 606-2838; email pay-leave-policy@opm.gov; or Fax: (202) 606-4264.

SUPPLEMENTARY INFORMATION: The U.S. Office of Personnel Management (OPM) is issuing an interim rule to abolish the Washington, DC, Federal Wage System (FWS) special wage schedule for printing and lithographic positions. The Department of Defense (DOD) recommended that we abolish this special wage schedule because Federal employment in printing and lithographic occupations in the Washington, DC, wage area has declined sharply in recent years, from 235 employees in 2004 to 24 today. Of the 24 remaining employees, there are 20 nonsupervisory (XP), 2 leaders (XL), and 2 supervisors (XS) employed by 10 agencies, and DOD expects the decline to continue.

None of the 24 employees benefit from being paid from the special printing schedule compared to what they would be paid under the regular wage schedule for the Washington, DC, wage area. OPM regulations provide that special printing schedules must have three step rates. Section 532.279(g) of title 5, Code of Federal Regulations, provides that no step 3 rate on a special printing schedule may be less than the maximum rate of the corresponding grade on the regular wage schedule for the wage area. This means that each step 3 printing survey rate is compared to the step 5 regular schedule rate, and the higher rate for each grade is selected for the special printing schedule. The step 3 rates for the first 10 XP and XL grades and all XS grades in the special printing schedule are equal to the step 5 rates in the Washington, DC, regular wage schedule. Although the remaining grades in the XP and XL schedules are higher than the Washington, DC, regular wage schedule step 5 rates, there are no employees in these remaining grades.

Printing and lithographic employees will convert to the Washington, DC, FWS regular wage schedule on a grade-by-grade basis. Each employee's new rate of pay will be set at the step-rate for the applicable grade of the regular wage schedule that equals the employee's existing rate of pay. If an employee's existing rate of pay falls between two steps on the regular schedule, the new rate will be set at the higher of the two steps. If an employee's existing rate of pay is higher than the highest rate for his or her grade on the regular schedule, the employee will, if otherwise eligible, be entitled to pay retention.

The Federal Prevailing Rate Advisory Committee, the national labor-management committee that advises OPM on FWS pay matters, reviewed and concurred by consensus with this change.

Since the special wage schedule for printing and lithographic occupations in the Washington, DC, wage area was the sole special printing schedule remaining, this interim rule removes section 532.279 from title 5, Code of Federal Regulations.

Waiver of Notice of Proposed Rulemaking and Delay in Effective Date

Pursuant to 5 U.S.C. 553(b)(3)(B), I find that good cause exists to waive the general notice of proposed rulemaking. Also pursuant to 5 U.S.C. 553(d)(3), I find that good cause exists for making this rule effective in less than 30 days. The notice of proposed rulemaking is being waived and the regulation is being made effective in less than 30 days because notice and comment on this matter is unnecessary. Federal employment in printing and lithographic occupations in the Washington, DC, wage area has declined sharply in recent years and is expected to continue to decline until there are no printing and lithographic employees left in the wage area; no affected employees will lose pay as result of converting to the FWS regular wage schedule; and, requiring DOD to conduct a full-scale wage survey for the diminishing number of employees in printing and lithographic positions in the Washington, DC, wage area in August 7, 2012, would be an unnecessary expenditure of resources.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

§ 532.279 [Removed]

2. Remove § 532.279.

[FR Doc. 2012-17123 Filed 7-12-12; 8:45 am]

BILLING CODE 6325-39-P